DEPARTMENT OF ENERGY

Environmental Management Site-Specific Advisory Board, Idaho Cleanup Project

AGENCY: Department of Energy.

ACTION: Notice of open conference call.

SUMMARY: This notice announces a conference call of the Environmental Management Site-Specific Advisory Board (EM SSAB), Idaho Cleanup Project. The Federal Advisory Committee Act requires that public notice of this conference call be announced in the Federal Register.

DATES: Wednesday, March 28, 2018—10:00 a.m.-12:00 p.m.

The opportunity for public comment is tentatively set for 10:00 a.m.

Conference Call: Call in number: (877) 820-7831, Passcode: 203901.

To Sign Up for Public Comment: Please contact Jordan Davies by email, Jordan.Davies@em.doe.gov, or phone (208) 557-7886, no later than 9:30 a.m. on Wednesday, March 28.

SUPPLEMENTARY INFORMATION:

Purpose of the Board: The purpose of the Board is to make recommendations to DOE-EM and site management in the areas of environmental restoration, waste management, and related activities.

Tentative Topic:

• In follow-up to the February 21, 2018, meeting, the board will consider a letter to DOE on the Advanced Mixed Waste Treatment Project's (AMWTP) future mission:

○ The AMWTP is a facility designed to treat, characterize, package, and ship transuranic and mixed low-level waste that has been stored in Idaho since the 1970s. The plant is scheduled to complete treatment of Idaho waste by the end of 2018, and DOE is considering extending the facility's mission to accommodate waste from other DOE sites.

Public Participation: Written statements may be filed with the Board either before or after the conference call. The Deputy Designated Federal Officer is empowered to conduct the conference call in a fashion that will facilitate the orderly conduct of business. Individuals wishing to make public comments will be provided a maximum of five minutes to present their comments.

Minutes: Minutes will be available by writing Bradley P. Bugger, Federal Coordinator, at Department of Energy, Idaho Operations Office, 1955 Fremont Avenue, MS-1203, Idaho Falls, Idaho 83415. Or call him at (208) 526-0833. Minutes will also be available at the following website: https://energy.gov/em/icpcab/listings/cab-meetings.

Issued at Washington, DC, on March 6, 2018.
LaTanya R. Butler,
Deputy Committee Management Officer.

[FR Doc. 2018-04731 Filed 3-8-18; 8:45 am]

BILLING CODE 6450-01-P